DEPARTMENT OF ENERGY

Federal Energy Regulatory Commission

Combined Notice of Filings

April 01, 2010.

Take notice that the Commission has received the following Natural Gas Pipeline Rate and Refund Report filings:

Docket Numbers: RP10-524-000.

Applicants: Trunkline Gas Company, LLC.

Description: Trunkline Gas Company, LLC submits Fourth Revised Sheet No. 28 et al. to FERC Gas Tariff, Third Revised Volume No.1, to be effective 4/1/10.c

Filed Date: 03/31/2010.

Accession Number: 20100331-0218.

Comment Date: 5 p.m. Eastern Time on Monday, April 12, 2010.

Docket Numbers: RP10-525-000.

Applicants: National Fuel Gas Supply Corporation.

Description: National Fuel Gas Supply Corporation submits the 134th Revised Sheet 9 to FERC Gas tariff, Fourth Revised Volume 1, to become effective 4/1/10.

Filed Date: 03/31/2010.

Accession Number: 20100331-0225.

Comment Date: 5 p.m. Eastern Time on Monday, April 12, 2010.

Docket Numbers: RP10-526-000.

Applicants: Kern River Gas Transmission Company.

Description: Kern River Gas Transmission Company submits a report supporting its gas compressor fuel factors and los and unaccounted-for gas factors for calendar year 2009.

Filed Date: 03/31/2010.

Accession Number: 20100331-0224.

Comment Date: 5 p.m. Eastern Time on Monday, April 12, 2010.

Docket Numbers: RP10-527-000.

Applicants: Natural Gas Pipeline Company of America.

Description: Natural Gas Pipeline Company of America, LLC submits First Revised Sheet 34L et al. to its FERC Gas Tariff, Seventh Revised Volume 1 to be effective 4/1/10.

Filed Date: 03/31/2010.

Accession Number: 20100331-0255.

Comment Date: 5 p.m. Eastern Time on Monday, April 12, 2010.

Docket Numbers: RP10-528-000.

Applicants: Natural Gas Pipeline Company of America.

Description: Natural Gas Pipeline Company of America, LLC submits Original Sheet 35C.13 et al. to its FERC Gas Tariff, Seventh Revised Volume 1 to be effective 4/1/10.

Filed Date: 03/31/2010.

Accession Number: 20100331-0256.

Comment Date: 5 p.m. Eastern Time on Monday, April 12, 2010.

Docket Numbers: RP10-529-000.

Applicants: Natural Gas Pipeline Company of America.

Description: Natural Gas Pipeline Company of America, LLC submits Third Revised Sheet 33D.01 et al. to its FERC Gas Tariff, Seventh Revised Volume 1 to be effective 4/1/10.

Filed Date: 03/31/2010.

Accession Number: 20100331-0257.

Comment Date: 5 p.m. Eastern Time on Monday, April 12, 2010.

Docket Numbers: RP10-530-000.

Applicants: Natural Gas Pipeline Company of America.

Description: Natural Gas Pipeline Company of America, LLC submits an amendment with a negotiated rate exhibit to an existing maximum recourse rate Storage Rate Schedule NNS agreement.

Filed Date: 03/31/2010.

Accession Number: 20100331-0258.

Comment Date: 5 p.m. Eastern Time on Monday, April 12, 2010.

Docket Numbers: RP10-531-000.

Applicants: Natural Gas Pipeline Company of America.

Description: Natural Gas Pipeline Company of America, LLC submits a new negotiated rate storage Rate Schedule NNS agreement with Anadarko Energy Service Company.

Filed Date: 03/31/2010.

Accession Number: 20100331-0259.

Comment Date: 5 p.m. Eastern Time on Monday, April 12, 2010.

Docket Numbers: RP10-532-000.

Applicants: Natural Gas Pipeline Company of America.

Description: Natural Gas Pipeline Company of America, LLC submits an amendment with a negotiated rate exhibit to an existing maximum recourse rate Storage Rate Schedule NNS agreement.

Filed Date: 03/31/2010.

Accession Number: 20100331-0260.

Comment Date: 5 p.m. Eastern Time on Monday, April 12, 2010.

Docket Numbers: RP10-533-000.

Applicants: Natural Gas Pipeline Company of America.

Description: Natural Gas Pipeline Company of America, LLC submits First Revised Sheet 33I to its FERC Gas Tariff, Seventh Revised Volume 1 to be effective 4/1/10.

Filed Date: 03/31/2010.

Accession Number: 20100331-0261.

Comment Date: 5 p.m. Eastern Time on Monday, April 12, 2010.

Docket Numbers: RP10-534-000.

Applicants: Natural Gas Pipeline Company of America.

Description: Natural Gas Pipeline Company of America, LLC submits Original Sheet 35C.14 to its FERC Gas Tariff, Seventh Revised Volume 1 to be effective 4/1/10.

Filed Date: 03/31/2010.

Accession Number: 20100331-0262.

Comment Date: 5 p.m. Eastern Time on Monday, April 12, 2010.

Docket Numbers: RP10-535-000.

Applicants: Natural Gas Pipeline Company of America.

Description: Natural Gas Pipeline Company of America LLS submits First Revised Sheet 33J et al. to FERC Gas Tariff, Seventh revised Volume 1, to become effective 4/1/10.

Filed Date: 03/31/2010.

Accession Number: 20100331-0263.

Comment Date: 5 p.m. Eastern Time on Monday, April 12, 2010.

Docket Numbers: RP10-536-000.

Applicants: Natural Gas Pipeline Company of America.

Description: Natural Gas Pipeline Company of America, LLC submits Original Sheet 34C.06 et al. to its FERC Gas Tariff, Seventh Revised Volume 1 to be effective 4/1/10.

Filed Date: 03/31/2010.

Accession Number: 20100331-0264.

Comment Date: 5 p.m. Eastern Time on Monday, April 12, 2010.

Docket Numbers: RP10-537-000.

Applicants: Natural Gas Pipeline Company of America.

Description: Natural Gas Pipeline Company of America, LLC submits Third Revised Sheet 35C et al. to its FERC Gas Tariff, Seventh Revised Volume 1 to be effective 4/1/10.

Filed Date: 03/31/2010.

Accession Number: 20100331-0265.

Comment Date: 5 p.m. Eastern Time on Monday, April 12, 2010.

Docket Numbers: RP10-538-000.

Applicants: Natural Gas Pipeline Company of America.

Description: Natural Gas Pipeline Company of America, LLC submits report of the refunds of penalty revenues to its FERC Gas Tariff, Seventh Revised Volume 1.

Filed Date: 03/31/2010.

Accession Number: 20100331-0266.

Comment Date: 5 p.m. Eastern Time on Monday, April 12, 2010.

Docket Numbers: RP10-539-000.

Applicants: Discovery Gas Transmission LLC.

Description: Discovery Gas Transmission LLC submits First Revised Sheet No. 1 et al. to FERC Gas Tariff, Original Volume No. 1, to be effective 5/1/10.

Filed Date: 03/31/2010.

Accession Number: 20100331-0241.

Comment Date: 5 p.m. Eastern Time on Monday, April 12, 2010.

Docket Numbers: RP10-540-000.

Applicants: Natural Gas Pipeline Company of America.

Description: Natural Gas Pipeline Company of America LLC submits First Revised Sheet No. 35C.08 to FERC Gas Tariff, Seventh Revised Volume No. 1, to be effective 4/1/10.

Filed Date: 03/31/2010.

Accession Number: 20100331-0235.

Comment Date: 5 p.m. Eastern Time on Monday, April 12, 2010.

Docket Numbers: RP10-541-000.

Applicants: Natural Gas Pipeline Company of America.

Description: Natural Gas Pipeline Company of America LLC submits Original Sheet No. 35C.10 to FERC Gas Tariff, Seventh Revised Volume No. 1, to be effective 4/1/10.

Filed Date: 03/31/2010.

Accession Number: 20100331-0236.

Comment Date: 5 p.m. Eastern Time on Monday, April 12, 2010.

Docket Numbers: RP10-542-000.

Applicants: Trailblazer Pipeline Company LLC.

Description: Trailblazer Pipeline Company LLC submits Third Revised Sheet No. 11 to FERC Gas Tariff, Fourth Revised Volume No. 1, to be effective 5/1/10.

Filed Date: 03/31/2010.

Accession Number: 20100331-0237.

Comment Date: 5 p.m. Eastern Time on Monday, April 12, 2010.

Docket Numbers: RP10-543-000.

Applicants: Transwestern Pipeline Company, LLC.

Description: Transwestern Pipeline Company LLC submits Seventh Revised Sheet No. 6 to FERC Gas Tariff, Third Revised Volume No. 1, to be effective 4/1/10.

Filed Date: 03/31/2010.

Accession Number: 20100331-0238.

Comment Date: 5 p.m. Eastern Time on Monday, April 12, 2010.

Docket Numbers: RP10-544-000.

Applicants: Northern Natural Gas Company.

Description: Northern Natural Gas Company submits Fifth Revised Sheet No. 66B.01b et al. to FERC Gas Tariff, Fifth Revised Volume No. 1, to effective 4/1/10.

Filed Date: 03/31/2010.

Accession Number: 20100331-0233.

Comment Date: 5 p.m. Eastern Time on Monday, April 12, 2010.

Docket Numbers: RP10-545-000.

Applicants: Quest Pipelines (KPC).

Description: Quest Pipelines (KPC) submits First Revised Sheet No. 112 to FERC Gas Tariff, Second Revised Volume No. 1, to be effective 5/1/10.

Filed Date: 03/31/2010.

Accession Number: 20100331-0239.

Comment Date: 5 p.m. Eastern Time on Monday, April 12, 2010.

Docket Numbers: RP10-546-000.

Applicants: Northern Natural Gas Company.

Description: Northern Natural Gas Company submits Fourteenth Revised Sheet No. 66B.01a et al. to FERC Gas Tariff, Fifth Revised Volume No. 1, to be effective 5/1/10.

Filed Date: 03/31/2010.

Accession Number: 20100331-0234.

Comment Date: 5 p.m. Eastern Time on Monday, April 12, 2010.

Docket Numbers: RP10-547-000.

Applicants: Rockies Express Pipeline LLC.

Description: Rockies Express Pipeline LLC submits Eighteenth Revised Sheet No. 10 to FERC Gas Tariff, Second Revised Volume No. 1, to be effective 4/1/10.

Filed Date: 03/31/2010.

Accession Number: 20100331-0240.

Comment Date: 5 p.m. Eastern Time on Monday, April 12, 2010.

Docket Numbers: RP10-548-000.

Applicants: East Tennessee Natural Gas, LLC.

Description: East Tennessee Natural Gas, LLC submits its cashout report for November 2008 through October 2009.

Filed Date: 03/31/2010.

Accession Number: 20100401-0223.

Comment Date: 5 p.m. Eastern Time on Monday, April 12, 2010.

Docket Numbers: RP10-549-000.

Applicants: Equitrans, LP.

Description: Equitrans, LP submits First Revised Sheet 319 et al. to its FERC Gas Tariff, Original Volume 1, to be effective 4/1/10.

Filed Date: 03/31/2010.

Accession Number: 20100401-0224.

Comment Date: 5 p.m. Eastern Time on Monday, April 12, 2010.

Docket Numbers: RP10-550-000.

Applicants: Gas Transmission Northwest Corporation.

Description: Gas Transmission Northwest Corporation submits First Revised Sheet 0 et al. to its FERC Gas Tariff, Original Volume 1, to be effective 4/30/10.

Filed Date: 03/31/2010.

Accession Number: 20100401-0215.

Comment Date: 5 p.m. Eastern Time on Monday, April 12, 2010.

Docket Numbers: RP10-551-000.

Applicants: Northern Border Pipeline Company.

Description: Northern Border Pipeline Company submits Fifteenth Revised Sheet 99 et al. to its FERC Gas Tariff, First Revised Volume 1, to be effective 5/1/10.

Filed Date: 03/31/2010.

Accession Number: 20100401-0216.

Comment Date: 5 p.m. Eastern Time on Monday, April 12, 2010.

Docket Numbers: RP10-552-000.

Applicants: Tuscarora Gas Transmission Company.

Description: Tuscarora Gas Transmission Company submits First Revised Sheet No. 0, 66, 120, 204, 213, 222, and 229 to FERC Gas Tariff, First Revised Volume No. 1, to be effective 4/30/10.

Filed Date: 03/31/2010.

Accession Number: 20100401-0217.

Comment Date: 5 p.m. Eastern Time on Monday, April 12, 2010.

Docket Numbers: RP10-553-000.

Applicants: Midcontinent Express Pipeline LLC.

Description: Midcontinent Express Pipeline, LLC submits Second Revised Sheet 7 et al. to its FERC Gas Tariff, Original Volume 1, to be effective 5/1/10.

Filed Date: 03/31/2010.

Accession Number: 20100401-0218.

Comment Date: 5 p.m. Eastern Time on Monday, April 12, 2010.

Docket Numbers: RP10-554-000.

Applicants: Transcontinental Gas Pipe Line Company.

Description: Transcontinental Gas Pipe Line Company, LLC submits Fifth Revised Sheet 81 et al. to its FERC Gas Tariff, Fourth Revised Volume 1, to be effective 5/1/10.

Filed Date: 03/31/2010.

Accession Number: 20100401-0219.

Comment Date: 5 p.m. Eastern Time on Monday, April 12, 2010.

Docket Numbers: RP10-555-000.

Applicants: ANR Pipeline Company.

Description: ANR Pipeline Company submits amendments to the negotiated rate agreements, Rate Schedule ETS, Rate Schedule NNS et al., to be effective 4/1/10.

Filed Date: 03/31/2010.

Accession Number: 20100401-0220.

Comment Date: 5 p.m. Eastern Time on Monday, April 12, 2010.

Docket Numbers: RP10-556-000.

Applicants: ANR Pipeline Company.

Description: ANR Pipeline Company submits Rate Schedule FSS, Rate Schedule ETS, and Rate Schedule FTS-1 negotiated rate service agreements, to be effective 4/1/10.

Filed Date: 03/31/2010.

Accession Number: 20100401-0221.

Comment Date: 5 p.m. Eastern Time on Monday, April 12, 2010.

Docket Numbers: RP10-557-000.

Applicants: ANR Pipeline Company.

Description: ANR Pipeline Company submits Seventeenth Revised Sheet 17A et al. to its FERC Gas Tariff, Second Revised Volume 1, to be effective 5/1/10.

Filed Date: 03/31/2010.

Accession Number: 20100401-0222.

Comment Date: 5 p.m. Eastern Time on Monday, April 12, 2010.

Docket Numbers: RP10-558-000.

Applicants: Kinder Morgan Interstate Gas Transmission.

Description: Kinder Morgan Interstate Gas Transmission LLC submits Sixth Revised Sheet 4O to FERC Gas Tariff, Fourth Revised Volume 1A, to be effective 4/1/10.

Filed Date: 03/31/2010.

Accession Number: 20100401-0228.

Comment Date: 5 p.m. Eastern Time on Monday, April 12, 2010.

Docket Numbers: RP10-559-000.

Applicants: Tuscarora Gas Transmission Company.

Description: Tuscarora Gas Transmission Company submits Original Sheet 7 et al. to FERC Gas Tariff, First Revised Volume 1, to be effective 4/30/10.

Filed Date: 03/31/2010.

Accession Number: 20100401-0227.

Comment Date: 5 p.m. Eastern Time on Monday, April 12, 2010.

Docket Numbers: RP10-560-000.

Applicants: North Baja Pipeline, LLC.

Description: North Baja Pipeline, LLC submits Second Revised Sheet 9A to FERC Gas Tariff, Original Volume 1, to be effective 4/30/10.

Filed Date: 03/31/2010.

Accession Number: 20100401-0229.

Comment Date: 5 p.m. Eastern Time on Monday, April 12, 2010.

Docket Numbers: RP10-561-000.

Applicants: Dominion Transmission, Inc.

Description: Dominion Transmission, LLC submits Eighteenth Revised Sheet 1300 et al. to FERC Gas Tariff, Third Revised Volume 1, to be effective 4/30/10.

Filed Date: 03/31/2010.

Accession Number: 20100401-0230.

Comment Date: 5 p.m. Eastern Time on Monday, April 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-8611 Filed 4-14-10; 8:45 am]

BILLING CODE 6717-01-P